DEPARTMENT OF COMMERCE

Census Bureau

Agency Information Collection Activities; Submission to the Office of Management and Budget (OMB) for Review and Approval; Comment Request; Report of Building or Zoning Permits Issues for New Privately-Owned Housing Units (Building Permits Survey)

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Report of Building or Zoning Permits Issues for New Privately-Owned Housing Units (Building Permits Survey), prior to the submission of the information collection request (ICR) to OMB for approval.

DATES: To ensure consideration, comments regarding this proposed information collection must be received on or before July 6, 2021.

ADDRESSES: Interested persons are invited to submit written comments by email to Thomas.J.Smith@census.gov. Please reference the Building Permits Survey in the subject line of your comments. You may also submit comments, identified by Docket Number USBC-2021-0013, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Aidan Smith, Construction Indicator Programs, Economic Indicators Division, U.S. Census Bureau, 301-763-2972, aidan.d.smith@census.gov.

SUPPLEMENTARY INFORMATION:

I. Abstract

The Census Bureau plans to request a three-year extension of Form C-404, “Report of Building or Zoning Permits Issued for New Privately-Owned Housing Units”, otherwise known as the Building Permits Survey. The Census Bureau uses this survey to produce statistics to monitor activity in the large and dynamic construction industry. For New Residential Construction (which includes Housing Units Authorized by Building Permits, Housing Starts, and Housing Completions), form C-404 is used to collect the estimate for Housing Units Authorized by Building Permits. For New Residential Construction and Sales, the number of housing units authorized by building permits is a key component utilized in the estimation of housing units started, completed, and sold.

These statistics help state and local governments, the Federal Government, and private industry, analyze the housing and construction industry sector of the economy. Building permits for new private housing units also are a component of The Conference Board's Leading Economic Index.

The Census Bureau uses Form C-404 to collect information on changes to the geographic coverage of permit-issuing places, the number and valuation of new residential housing units authorized by building permits, and additional information on residential permits valued at $2 million or more, including, but not limited to, site address and type of building. The Census Bureau uses these data to estimate the number of housing units started, the number of housing units completed, the number of single-family houses sold, and to select samples for the Census Bureau's demographic surveys. The Building Permits Survey is the only source of statistics on residential construction for states and smaller geographic areas. The Census Bureau uses the detailed geographic data collected from state and local officials on new residential construction authorized by building permits in the development of annual population estimates that are used by government agencies to allocate funding and other resources to local areas. Policymakers, planners, businesses, and others also use the detailed geographic data to monitor growth, plan for local services, and to develop production and marketing plans.

II. Method of Collection

Respondents may submit their data via internet or a mailed or faxed form. Some respondents choose to report over the phone or to send proprietary files containing permit information in lieu of returning the form.

The survey universe is comprised of approximately 19,998 local governments that issue building permits. Due to resource availability and the time required to complete the data review and analysis, the Census Bureau collects data from a selection of permit-issuing jurisdictions monthly, and the remainder of the jurisdictions annually. We collect this information monthly for about 8,385 permit-issuing jurisdictions who respond via internet or who mail or fax the provided form. Another 228 jurisdictions have established reporting arrangements that allow them to submit their responses monthly via proprietary electronic files or mailed printouts using their own file format. We collect this information annually for about 10,509 permit-issuing jurisdictions who respond via internet or who mail or fax the provided form. Another 878 jurisdictions chose to submit their responses to the annual survey via telephone, proprietary electronic files or mailed printouts using their own file format.

III. Data

OMB Control Number: 0607-0094.

Form Number(s): C-404.

Type of Review: Regular submission, Request for an Extension, without Change, of a Currently Approved Collection.

Affected Public: State and Local governments.

Estimated Number of Respondents: 19,998.

Estimated Time per Response: 8 minutes for monthly respondents who report via internet, mail or faxing the form, 23 minutes for annual respondents who report via internet, mail or faxing the form and 3 minutes for monthly and annual respondents who report by telephone or send electronic files or printouts.

Estimated Total Annual Burden Hours: 17,625.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Sections 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-09672 Filed 5-6-21; 8:45 am]

BILLING CODE 3510-07-P